DEPARTMENT OF JUSTICE

Notice of Lodging of Proposed Consent Decree Under the Clean Water Act

On February 15, 2018, the Department of Justice lodged a proposed Consent Decree with the United States District Court for the Northern District of Illinois in the lawsuit entitled United States v. Buckeye Pipe Line Company, L.P., et al., Civil Action No. 18-cv-1194.

The United States filed a Complaint for civil penalties and injunctive relief alleging violations of Sections 301 and 311(b) of the Clean Water Act (CWA) arising out of the discharge of approximately 705 barrels of jet fuel from a pipeline near Palos Park, Cook County, Illinois. The United States' Complaint names as defendants Buckeye Pipe Line Company, L.C., the operator of the pipeline, and West Shore Pipe Line Company, the owner of the pipeline. Both defendants signed the proposed Consent Decree to resolve these claims, agreeing to pay a total of $400,000 in civil penalties and to maintain improvements made to prevent future discharges. Specifically, defendants have improved Control Center diagrams and operating procedures and have agreed to train all relevant personnel on these improvements. Defendants have also agreed to annually report on further improvements, corrective actions taken on the relevant pipeline, individuals trained and all releases reported to the National Response Center.

The publication of this notice opens a period for public comment on the proposed Consent Decree. Comments should be addressed to the Assistant Attorney General, Environment and Natural Resources Division, and should refer to United States v. Buckeye Pipe Line Co. L.P., et al., D.J. Ref. No. 90-5-1-1-11370/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.

We will provide a paper copy of the proposed Consent Decree upon written request and payment of reproduction costs. Please mail your request and payment to: Consent Decree Library, U.S. DOJ-ENRD, P.O. Box 7611, Washington, DC 20044-7611.

Please enclose a check or money order for $4.50 (25 cents per page reproduction cost) payable to the United States Treasury.

Randall M. Stone,
Acting Assistant Section Chief, Environmental Enforcement Section, Environment and Natural Resources Division.

[FR Doc. 2018-04083 Filed 2-27-18; 8:45 am]

BILLING CODE 4410-15-P